DEPARTMENT OF JUSTICE

[AAG/A Order No. 225-2001]

Privacy Act of 1974; System of Records

Pursuant to the provisions of the Privacy Act of 1974 (5 U.S.C. 552a), notice is hereby given that the Department of Justice, Immigration and Naturalization Service (INS) is republishing Subsystem G of “The Immigration and Naturalization Service Index System, JUSTICE/INS-001,”—last published October 5, 1993 (58 FR 51847)—as a separate system of records to be entitled “National Automated Immigration Lookout System (NAILS).” The system was formerly entitled, Service Lookout System. Subsystem G is also being redescribed to cancel two sub-subsystems which are no longer required, as the records are now maintained in other systems of records. Records maintained in the Application and petition System are now maintained in the Computer Linked Application Petition System JUSTICE/INS-013. Records maintained in the Correspondence Control Index are now maintained in the JUSTICE/INS-001, Subsystem G, Correspondence Control and Task Tracking System.

NAILS is being redescribed to improve the clarity and accuracy of the system description. Specifically, INS proposes to: (1) Remove inapplicable routine use disclosure provisions; (2) add four routine use disclosures (i.e., C, H, I, and J). (Routine use C will assist INS with its law enforcement functions. Routine use H will allow contractors working for INS to have access to the information in this system of records. Routine use I allows disclosure to former employees when the Department of Justice requires information and/or consultation assistance from the former employee that is necessary for personnel-related or other official purposes regarding a matter within that person's former area of responsibility. Finally, routine use J allows disclosure to the Courts and adjudicative bodies to protect the litigation interest of the INS; (3) modify one routine use (D). Routine use D has been revised to remove the applicant, petitioner, or respondent since no routine use disclosure provision is necessary to disclose to these individuals; and (4) make other minor corrections and edits to reflect the current status of this system of records.

In accordance with 5 U.S.C. 552a (e)(4) and (11), the public is given a 30-day period in which to comment on the system of records. The Office of Management and Budget (OMB), which has oversight responsibility under the Act, requires a 40-day period in which to conclude its review of the system. Therefore, please submit any comment by (30 days from the publication date of this notice). The public OMB and the Congress are invited to submit any comments to Mary Cahill, Management Analyst, Management and Planning Staff, Justice Management Division, Department of Justice, Washington, DC 20530 (Room 1400, National Place Building).

In accordance with 5 U.S.C. 552a the Department has provided a report to OMB and the Congress.

Dated: March 29, 2001.
Stephen R. Colgate,
Assistant Attorney General for Administration.

JUSTICE/INS-032

System Name:

National Automated Immigration Lookout System (NAILS).

System Location:

Headquarters, Regional and District offices, Administrative Centers, Service centers, ports of entry and other file control offices of the Immigration and Naturalization Service (INS) in the United States as detailed in JUSTICE/INS-999, last published, April 13, 1999 (64 FR 18052).

Categories of Individuals Covered by the System:

Violators or suspected violators of the criminal or civil provisions of statutes enforced by INS, other federal law enforcement agencies, and persons whom INS has reason to believe are not entitled to be admitted into the United States.

Categories of Records in the System:

This system contains names and reference data on violators, alleged violators, and suspected violators of the criminal or civil provisions of the statutes enforced by INS, and other Federal law enforcement agencies. The system also maintains the name and reference data on persons not entitled to be admitted into the United States. The system also interfaces with other INS data systems. They are the Deportable Alien Control System (DACS—system notice JUSTICE/INS-012) lookout records from the Detention and Deportation Branch; records from the Alien Documentation, Identification and Telecommunication (ADIT); Lost/Stolen/Recovered Alien Registration Cards from the Computer Linked Applications Information Management System (CLAIMS—system notice JUSTICE/INS-013); the Non-Immigrant Information System (NIIS) entry and departure information for non-immigrant aliens under the Visa Waiver Pilot Program (VWPP) that are confirmed overstays and refusals; lookout records from the Consular Lookout and Support System (CLASS) and the TIPOFF database (suspected terrorist database) from the United States Department of State; and the Interagency Border Inspection System (IBIS) which supports systems of different border inspection agencies.

Authority for Maintenance for the System:

8 U.S.C. 1185.

Purpose(s):

The purpose of the system is to facilitate the inspection and investigation processes by providing quick and easy retrieval of biographical or case data on individuals who may be inadmissible to the United States, or may be of interest to other Federal agencies.

Routine Uses of Records Maintained in the System, Including Categories of Users and the Purpose of Such Uses:

Relevant information contained in this system of records may be disclosed as follows:

A. To other Federal, State, local government, and international law enforcement and regulatory agencies, foreign governments, the Department of Defense, including all components thereof, the Department of State, the Department of the Treasury, the Central Intelligence Agency, the Selective Service System, the United States Coast Guard, the United Nations, INTERPOL, and individuals and organizations during the course of investigations in the processing of a matter or a proceeding within the purview of the immigration and nationally laws, to elicit information required by the Service to carry out its functions and statutory mandates.

B. To a Federal, State, local or foreign government agency or organization, or international organization, lawfully engaged in collecting law enforcement intelligence information, whether civil or criminal, and/or charged with investigating, prosecuting, enforcing or implementing civil and/or criminal laws, related rules, regulations or orders, to enable these entities to carry out their law enforcement responsibilities, including the collection of law enforcement intelligence.

C. To the appropriate agency/organization/task force, regardless of whether it is Federal, State, local, foreign, or tribal, charged with the enforcement (e.g., investigation and prosecution) of a law (criminal or civil), regulation, or treaty, of any record contained in this system of records which indicates either on its face, or in conjunction with other information, a violation or potential violation of that law, regulation, or treaty.

D. To an attorney or representative who is acting on behalf of an individual covered by this system of records as defined in 8 CFR 1.1(j) in conjunction with any proceeding before the Immigration and Naturalization Service or the Executive Office for Immigration Review.

E. To the news media and the public pursuant to 28 CFR 50.2 unless it is determined that release of the specific information in the context of a particular case would constitute an unwarranted invasion of personal privacy.

F. To a Member of Congress, or staff acting upon the Member's behalf, when the Member or staff requests the information on behalf of and at the request of the individual who is the subject of the record.

G. To General Service Administration (GSA) and National Archives and Records Administration (NARA) in records management inspections conducted under the authority of 44 U.S.C. 2904 and 2906.

H. To contractors, grantees, experts, consultants, students, and others performing or working on a contract, service, grant, cooperative agreement, or other assignment for the Federal government, when necessary to accomplish an agency function related to this system of records.

I. Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

J. In a proceeding before a court or adjudicative body before which INS or the Department of Justice (DOJ) is authorized to appear when any of the following is a party to the litigation or has an interest in the litigation and such records are determined by INS or DOJ to be arguably relevant to the litigation: (1) DOJ, or any DOJ component, or subdivision thereof; (2) any DOJ employee in his or her official capacity; (3) any DOJ employee in his or her individual capacity when the DOJ has agreed to represent the employee or has authorized a private attorney to represent him or her; and (4) the United States, where INS or the DOJ determines that the litigation is likely to affect it or any of its subdivisions.

Policies and Practices for Storing Retrieving, Accessing, Retaining, and Disposing of Records in the System: Storage:

Records are stored on computer processable storage media, and paper records generated from the computer are stored in lockable file cabinets.

Retrievability:

Records are retrieved by name and other identifying information as available, of the person, normally at the time the person is seeking admission to the United States.

Safeguards:

The NAILS database is a mainframe-based integrated data management system used as the INS lookout database that contains records on individuals who are either not entitled to be admitted to the United States, or who are to be admitted but with notification of their entry to the appropriate agency. Authorized access requires use of a password which is restricted to persons having a need to access NAILS in the performance of their official duties. Paper records generated by NAILS are stored in spaces that are locked outside of normal office hours. Many records are stored in cabinets or machines that are locked outside normal office hours. Most INS offices are located in buildings under security guard, and access to premises is by official identification.

Retention and Disposal

The following INS proposal for retention and disposal is pending approval by NARA: Each record is deleted automatically from the system when it reaches its established expiration data. (NOTE: The officer who creates a lookout record establishes the expiration date of the record that may vary from one day to 100 years.) Electronic Mail and Word Processing System copies that have no further administrative value after the recordkeeping copy is made, will be destroyed/deleted within 180 days after the recordkeeping copy has been produced. Those copies used for dissemination, revision, or updating that are maintained in addition to the recordkeeping copy are destroyed/deleted when disseminations, revision, or updating is completed.

System Manager(s) and Address:

Associate Commissioner, Programs, Immigration and Naturalization Service, 425 I Street NW, Washington, DC 20536.

Notification Procedures:

Inquiries should be addressed either to: 1) The system manager noted above; 2) to the FOIA/PA Officer at the INS office where the record is maintained; and 3) the Headquarters FOIA/PA Office at 425 I Street, NW, Second Floor, Union Labor Life Building, Washington, DC 20526.

Records Access Procedure:

Requests for access to records in this system shall be in writing and should be addressed to the System Manager noted above or to the appropriate FOIA/PA Officer as indicated in System Locations. Requests sent directly to the System Manager should be submitted by mail. Requests to the FOIA/PA Officer may be submitted either my mail or in person. If a request for access is made by mail, the envelope and letter shall be clearly marked Privacy Access Request. Include a description of the general subject matter and if known, the related file number. To identify a record, the requester should provide his or her full name, date and place of birth, verification of identity in accordance with 8 CFR 103.21(b), and any other identifying information which may be of assistance in locating the record. The requester shall also provide a return address for transmitting the records to be released.

Contesting Record Procedures:

An individual desiring to request amendment of records maintained in this system of records should direct his or her request to the System Manager or to the appropriate FOIA/PA Officer noted in System Locations. The request should state the information being contested, the reason(s) for contesting it, and the proposed amendment thereof. Persons filing such requests should make the envelope with the following legend “Privacy Act Amendment Request.”

Record Source Categories:

Basic information contained in this index is gathered from INS inspections, adjudications, reports of investigation, sworn statements, correspondence and memoranda, official reports, memoranda, and written and electronic referrals from other government agencies, including Federal, State, and local, information from foreign government agencies and international organizations.

Systems Exempted From Certain Provisions of the Act:

The Attorney General has exempted this system from subsections (c)(3) and (4), (d), (e)(1), (2), and (3), (e)(4)(G) and (H), (e)(5) and (8), and (g), of the Privacy Act pursuant to 5 U.S.C. 552a(j)(2). In addition, the Attorney General has exempted this system from subsections (c)(3), (d) and (e)(1), (e)(4)(G) and (H) of the Privacy Act pursuant to 5 U.S.C. 552a(k)(2). The exemptions apply only to the extent that records in the system are subject to exemptions pursuant to 5 U.S.C. 552a (j)(2) and (k)(2). INS has published proposed implementing regulations in accordance with the requirements of 5 U.S.C. 553(b), (c), and (e) and these are published in today's Federal Register.

[FR Doc. 01-8285 Filed 4-3-01; 8:45 am]

BILLING CODE 4410-10-M